DEPARTMENT OF LABOR

Employment And Training Administration

[TA-W-53,647]

Gates Corporation, Air Springs Division, Including Leased Workers of Manpower and JRC Quality Systems, LLC, Denver, Colorado; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on December 15, 2003, applicable to workers of Gates Corporation, Air Springs Division, including temporary workers of Manpower, Denver, Colorado. The notice was published in the Federal Register on January 16, 2004 (69 FR 2624).

At the request of the petitioners, the Department reviewed the certification for workers of the subject firm. New information shows that leased workers of JRC Quality Systems, LLC were employed at Gates Corporation, Air Springs Division at the Denver, Colorado location of the subject firm.

Based on these findings, the Department is amending this certification to include leased workers of JRC Quality Systems, LLC working at Gates Corporation, Air Springs Division, Denver, Colorado.

The intent of the Department's certification is to include all workers employed at Gates Corporation, Air Springs Division Trends Clothing Corporation, a.k.a. Trends International, who were adversely affected by a shift in production to Mexico.

The amended notice applicable to TA-W-53,647 is hereby issued as follows:

All workers of Gates Corporation, Air Springs Division, including leased workers of Manpower and JRC Quality Systems, LLC, Denver, Colorado, who became totally or partially separated from employment on or after November 24, 2002, through December 15, 2005, are eligible to apply for adjustment assistance under section 223 of the Trade Act of 1974, and are also eligible to apply for alternative trade adjustment assistance under section 246 of the Trade Act of 1974.

Signed in Washington, DC this 17th day of February, 2004.
Linda G. Poole,
Certifying Officer, Division of Trade Adjustment Assistance.

[FR Doc. E4-468 Filed 3-5-04; 8:45 am]

BILLING CODE 4510-13-P